NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119)

Date and Time: April 5—8:30 am-6:15 pm, April 6—8:30 am-3:00 pm.

Place: National Science Foundation, 4201 Wilson Boulevard, Arlington, VA 22230.

Type of Meeting: Open.

Contact Person: John B. Hunt, Senior Liaison, ACEHR, Directorate for Education and Human Resources, National Science Foundation, 4201 Wilson Boulevard, Room 805, Arlington, VA 22230, 703-306-1602.

Summary Minutes: May be obtained from contact person listed above.

Purpose of Meeting: To provide advice and recommendations concerning NSF support for Education and Human Resources.

Agenda: Review of FY 2000 Programs and strategic planning for FY 2001 and beyond.

Dated: March 6, 2000.
Karen J. York,
Committee Management Officer, HRM.

[FR Doc. 00-5884 Filed 3-9-00; 8:45 am]

BILLING CODE 7555-01-M